COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add service(s) to the Procurement List that will be furnished by nonprofit agencies employing persons who are blind or have other severe disabilities.

DATES: Comments must be received on or before: January 28, 2026 .

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

In accordance with 41 CFR 51-5.3(b), the Committee intends to add the service requirements listed below to the Procurement List as a mandatory purchase only for the contracting activities at the locations listed with the proposed qualified nonprofit agency as the authorized source of supply. Prior to adding the service to the Procurement List, the Committee will consider other pertinent information, including information from Government personnel and relevant comments from interested parties regarding the Committee's intent to geographically limit this services requirement.

Services(s)

Service Type: Document Destruction

Mandatory for: US Air Force, Oklahoma City-Air Logistics Complex,7858 5th Street, Tinker, AFB, OK

Authorized Source of Supply: The Meadows Center for Opportunity, Inc., Edmond, OK

Contracting Activity: DEPT OF DEFENSE, FA8132 AFSC PZIMC

Service Type: Laundry & Linen Services

Mandatory for: Department of Veterans Affairs, Memphis VA Medical Center and Outpatient Clinics, Memphis, TN, 116 N. Pauline Street, Memphis, TN

Designated Source of Supply: Wiregrass Rehabilitation Center, Inc., Dothan, AL

Contracting Activity: VETERANS AFFAIRS, DEPARTMENT OF, 249-NETWORK CONTRACT OFC 9(00249)

Service Type: Janitorial Service

Mandatory for: National Park Service, Golden Gate National Recreation Area, Marin County Administrative Buildings and Public Restrooms, and San Francisco County Public Restrooms, San Francisco, CA

Authorized Source of Supply: Toolworks, San Francisco, CA

Contracting Activity: National Park Service, San Francisco Golden Gate National Recreation Area

Michael R. Jurkowski,
Director, Business Operations.

[FR Doc. 2025-23893 Filed 12-23-25; 8:45 am]

BILLING CODE 6353-01-P